DEPARTMENT OF THE INTERIOR

Bureau of Land Management

[LLID9570000.LL14200000.BJ0000]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the BLM to meet their administrative needs. The lands surveyed are:

The plat representing the dependent resurvey of portions of T. 7 S., R. 2 E., T. 8 S., R. 4 E., T. 10 S., R. 3 E., and T. 10 S., R. 4 ., of the Boise Meridian, Idaho, Group Number 1317, was accepted July 22, 2011.

The plat representing the dependent resurvey of a portion of the north boundary and a portion of the subdivisional lines, and a portion of the boundaries of mineral survey No. 3416 in sections 1, 2, and 3, T. 47 N., R. 4 E., of the Boise Meridian, Idaho, Group Number 1246, was accepted September 16, 2011.

The plat representing the dependent resurvey of a portion of the subdivisional lines, and a metes-and-bounds survey in sections 5 and 8, T. 11 N., R. 17 E., of the Boise Meridian, Idaho, Group Number 1322, was accepted September 19, 2011.

These surveys were executed at the request of the Bureau of Indian Affairs to meet their administrative needs. The lands surveyed are:

The plat representing the dependent resurvey of portions of the 7th Standard Parallel North (north boundary) and subdivisional lines, and the subdivision of sections 3, 11, 14, and 23, T. 35 N., R. 1 E., Boise Meridian, Idaho, Group Number 1233, was accepted July 13, 2011.

The plat representing the dependent resurvey of portions of the west boundary and subdivisional lines, and the subdivision of secs. 19 and 30, and the metes-and-bounds survey of lots 7, 8, 9, and 10, in sec. 30, T. 46 N., R. 4 W., Boise Meridian, Idaho, Group Number 1299, was accepted July 15, 2011.

The plat representing the dependent resurvey of a portion of the subdivisional lines, and the subdivision of sec. 25, T. 46 N., R. 5 W., Boise Meridian, Idaho, Group Number 1301, was accepted July 15, 2011.

The plat representing the dependent resurvey of a portion of the west boundary and a metes-and-bounds survey in section 13, T. 45 N., R. 6 W., of the Boise Meridian, Idaho, Group Number 1256, was accepted September 12, 2011.

The supplemental plat in 34, T. 37 N., R. 1 E., Boise Meridian, Idaho, Group Number 1346, was prepared to show amended lottings, was accepted September 30, 2011.

These surveys were executed at the request of the U.S. Forest Service to meet their administrative needs. The lands surveyed are:

The supplemental plat in sec. 22, T. 54 N., R. 2 W., Boise Meridian, Idaho, Group Number 1364, was prepared to show amended lottings, was accepted September 30, 2011.

SUMMARY:The Bureau of Land Management (BLM) will file the plat of survey of the lands described below in the BLM Idaho State Office, Boise, Idaho, 30 days from the date of publication in the Federal Register. This survey was executed at the request of the U.S. Fish and Wildlife Service to meet certain administrative and management purposes.

The plats constituting the entire survey record of the survey of certain islands in the Snake River, Tps 1 and 2 N., R. 3 W., T. 2 N., R. 4 W., T. 3 N., R. 4 W., T. 3 N., R. 5 W., and T. 4 N., R. 5 W., Boise Meridian, Idaho, were accepted July 29, 2011.

Dated: October 7, 2011.
Bruce E. Ogonowski,
Acting Chief Cadastral Surveyor for Idaho.

[FR Doc. 2011-27665 Filed 10-25-11; 8:45 am]

BILLING CODE 4310-GG-P